NATIONAL SCIENCE FOUNDATION

Sunshine Act Meetings; Notice

Agency Holding Meeting: National Science Foundation, National Science Board, and its Subdivisions.

Date and Time:

August 13, 2003: 8:30 a.m.-5 p.m.

Concurrent Sessions:

8:30 a.m.-9:30 a.m. Open Session.

9:30 a.m.-11:30 a.m. Open Session.

12 Noon-12:20 p.m. Open Session.

12:20 p.m.-1 p.m. Closed Session.

1 p.m.-3 p.m. Open Session.

1 p.m.-1:15 p.m. Closed Session.

1:15 p.m.-3 p.m. Open Session.

2 p.m.-2:40 p.m. Closed Session.

2:40 p.m.-5 p.m. Open Session.

August 14, 2003: 8 a.m.-3:30 p.m.

Concurrent Sessions:

8 a.m.-9:15 a.m. Closed Session.

9:15 a.m.-10:30 a.m. Open Session.

8:30 a.m.-10:30a.m. Open Session.

10:30 a.m.-12 Noon Closed Session.

12:30 p.m.-3:30 p.m. Open Session.

Place: The National Science Foundation, 4201 Wilson Boulevard, Arlington, VA 22230, http://www.nsf.gov/nsb.

FOR FURTHER INFORMATION CONTACT: NSF Information Center (703) 292-5111.

Status: Part of this meeting will be closed to the public. Part of this meeting will be open to the public.

Matters to be Considered:

Wednesday, August 13, 2003

Open

Task Force on S&E Workforce Policy (8:30 a.m.-9:30 a.m.) Room 1235.

• Approval of Minutes, May 21 and July 10.

• Discussion of comments from Board members on the revised draft report (NSB-03-69).

• Report on Comments Received.

• Publicity Plan and Schedule for the Final Report; Roll-out Event Options.

• Cover and Title.

Subcommittee on S&E Indicators (9:30 a.m.-11:30 a.m.) Room 1295.

• Approval of Minutes.

• S&E Indicators 2004 Overview Chapter.

• Distribution of the Orange Book for Agency Review.

• S&E Indicators 2004 Companion Piece.

Executive Committee (12 Noon-12:20 p.m.) Room 1295.

• Minutes.

• Welcome New Executive Officer.

Committee on Audit and Oversight (1:15 p.m.-3 p.m.) Room 1295.

• Minutes.

• Audit Update—KPMG.

• IG Act Anniversary.

• GAO Review of NSF Business Analysis Plan Contract.

• Cost-Sharing Policy Update.

• CFO Update.

• CIO Update.

Ad Hoc Task Group on Long-Lived Data Collections (1 p.m.-3 p.m.) Room 1240.

• Introduction of Contract Support.

• Presentations on Research Databases (BIO, GEO, MPS).

• Discussion: October Workshop.

Committee on Strategy and Budget (2:40 p.m.-5 p.m.) Room 1235.

• Draft Strategic Plan.

• Discussion: Report Required by Section 22 of the NSF Authorization Act.

• Introduction.

• S&E Workforce.

• Expanding Institutional Participation.

• S&E Research Infrastructure.

• Size and Duration of Grants.

• Overall Spending Recommendations.

Closed

Executive Committee (12:20 p.m.-1 p.m.) Room 1295.

• Director's Items.

• Specific Personnel Matters.

• Future Budgets.

Audit & Oversight (1 p.m.-1:15 p.m.) Room 1295.

• Presentation of OIG FY 2005 Budget.

• Briefing About Active Investigation.

Committee on Strategy & Budget (2 p.m.-2:40 p.m.) Room 1235.

• FY 2005 NSF Budget.

• FY 2005 NSB Budget.

Thursday, August 14, 2003

Open

Committee on Programs and Plans (9:15 a.m.-10:30 a.m.) Room 1235.

• Minutes/Announcements.

• Section 14 Authorization—Letter to Congress Regarding Delegation of Authority on Approval of MREFC Items.

• High Risk Research.

• Management of Large Computational Facilities.

• Long-Lived Data Collections: Status Report.

• Infrastructure Committee.

Committee on Education and Human Resources (8:30 a.m.-10:30 a.m.) Room 1295

Minutes

• Minutes.

• Comments from the Chair.

• Discussion: NWP Task Force Report.

• Reports from Working Groups (K-12, Undergraduate & Graduate).

• Report from Subcommittee on S&E Indicators.

• Focus on the Future: BIO 2010 (continued).

• Report from the August 12th Workshop on Broadening Participation.

• Report from the EHR AD.

• New Business.

Plenary Session of the Board (12:30 Noon-3:30 p.m.)

Room 1235

• Oath of Office.

• Minutes.

• Closed Items, October 2003.

• Chairman's Report.

• Director's Report.

• NSF Strategic Plan, 2003-2008.

• NWP Report.

• Multidisciplinary Data Initiative.

• Wireless Connectivity Update.

• Committee Reports.

Closed

Committee on Programs and Plans (8 a.m.-9:15 a.m.)

Room 1235

• Major Research Equipment & Facilities Construction.

• Report on Meeting of the MREFC Panel.

• New MREFC Projects.

Plenary Session of the Board (10:30 a.m.-12 Noon)

Room 1235

• Closed Minutes.

• Member Proposal.

• FY 2005 Budget.

• Closed Session Committee Reports.

Michael P. Crosby,
Executive Officer, NSB.

[FR Doc. 03-20353 Filed 8-6-03; 8:45 am]

BILLING CODE 7555-01-M